DEPARTMENT OF COMMERCE

Bureau of Industry and Security

15 CFR Parts 705, 730, 736, 744, 747, 754, 756, 760, 766, 768, 770, and 772

[Docket No. 070411085-7088-01]

RIN 0694-AE01

Updated Office Names, Office Addresses, Statements of Legal Authority and Statute Name and Citation

AGENCY: Bureau of Industry and Security, Commerce.

ACTION: Final rule.

SUMMARY: This rule revises office names and addresses to reflect a recent Bureau of Industry and Security (BIS) reorganization, updates the statements of legal authority for ten parts of the Export Administration Regulations (EAR), and replaces an outdated statute name and citation with the current name of that statute in one section of the EAR.

DATES: This rule is effective May 4, 2007.

ADDRESSES: Comments concerning this rule should be sent to publiccomments@bis.doc.gov, fax (202) 482-3355, or to Regulatory Policy Division, Bureau of Industry and Security, Room H2705, U.S. Department of Commerce, Washington, DC 20230. Please refer to regulatory identification number (RIN) 0694-AE01 in all comments, and in the subject line of email comments.

FOR FURTHER INFORMATION CONTACT: William Arvin, Regulatory Policy Division, Bureau of Industry and Security, Telephone: (202) 482-2440.

SUPPLEMENTARY INFORMATION

Background

This rule updates outdated office names, office addresses, legal authority citations and a reference to a statute as described below.

Revision of Addresses in Accordance With Reassignment of Responsibilities Within BIS

BIS recently created an Office of Technology Evaluation and assigned to it the responsibility for conducting investigations into the effect of imported articles on the national security pursuant to part 705 of the National Security Industrial Base Regulations (15 CFR Part 705) and for conducting foreign availability assessments pursuant to part 768 of the EAR (15 CFR Part 768). Accordingly, this rule revises both of those parts to include the mailing address of that office.

Updating Statements of Legal Authority

The legal authorities for the EAR (15 CFR 730-799) change from time to time. The expiration of the Export Administration Act on August 20, 2001, the issuance of Executive Order 13222 of August 17, 2001, 3 CFR, 2001 Comp., p. 783 (2002) and the annual notices declaring the continuation of the international emergency noted in that Executive Order mean that the legal authority for each part of the EAR has, in recent years, changed at least annually. In addition, the authority citations for some parts change more often due to periodic updates and amendments to the relevant statutes. This rule revises the citations of authority for parts 730, 736, 747, 754, 756, 760, 766, 768, 770, and 772 to reflect the legal authorities in currently in effect.

Updating Statement of BIS Organization

Section 730.9 of the EAR describes how the Bureau of Industry and Security is organized. This rule removes the reference to the Director, Office of International Programs from paragraph (a) of that section and adds a reference to the Office of Technology Evaluation to paragraph (b) of that section in accordance with recent BIS actions to eliminate the Office of International Programs and to create the Office of Technology Evaluation.

Updating Name of a Referenced Statute

Section 744.19 describes BIS's licensing policy for transactions that involve certain entities sanctioned by the Department of State and references the statutes that authorize such sanctions. Prior to publication of this rule, § 744.19 referenced one such statute as “the Iran Nonproliferation Act of 2000 (Pub. L. 106-178)” This rule revises the reference to reflect the current name of the statute: the Iran, North Korea, and Syria Nonproliferation Act (Pub. L. 107-178, 114 Stat. 38 (March 14, 2000), as amended by Public Law 109-112, 119 Stat. 2366 (November 11, 2005) and Public Law 109-353, 120 Stat. 2015 (October 13, 2006)).

Although the Export Administration Act expired on August 20, 2001, the President, through Executive Order 13222 of August 17, 2001, 3 CFR, 2001 Comp., p. 783 (2002), as extended by the Notice of August 3, 2006, 71 FR 44551 (August 7, 2006), has continued the Export Administration Regulations in effect under the International Emergency Economic Powers Act.

Rulemaking Requirements

1. This rule has been determined to be not significant for purposes of E.O. 12866.

2. Notwithstanding any other provision of law, no person is required to respond to, nor shall any person be subject to a penalty for failure to comply with, a collection of information subject to the requirements of the Paperwork Reduction Act of 1995 (44 U.S.C. 3501 et seq.) (PRA), unless that collection of information displays a currently valid Office of Management and Budget (OMB) Control Number. This rule involves two collections that are subject to the Paperwork Reduction Act. OMB control number 0694-0120 applies to procedures for initiating investigations into the effect of import on national security pursuant to part 705 of the National Security Industrial Base Regulations. OMB Control number 0694-0004 applies to foreign availability submissions and technical advisory committee certifications submitted to BIS pursuant to part 768 of the Export Administration Regulations. BIS believes that this rule will make no changes to the burdens associated with either of those two collections. Send comments about this collection, including suggestions for reducing the burden, to David Rostker, Office of Management and Budget, by e-mail to David_Rostker@omb.eop.gov, or by fax to (202) 395-7285; and to the Office of Administration, Bureau of Industry and Security, Department of Commerce, 14th and Pennsylvania Avenue, NW., Room 6883, Washington, DC 20230.

3. This rule does not contain policies with Federalism implications as that term is defined under E.O. 13132.

4. The Department finds that there is good cause under 5 U.S.C. 553(b)(B) to waive the provisions of the Administrative Procedure Act requiring prior notice and the opportunity for public comment because they are unnecessary. The changes made by this rule are not substantive changes. This rule only updates office names and addresses to reflect recent internal BIS organizational changes, updates legal authority citations, and updates the name and citation of a statute referenced in the National Security Industrial Base Regulations and the Export Administration Regulations. This rule does not alter any right, obligation or prohibition that applies to any person under those regulations. Because these revisions are not substantive changes, it is unnecessary to provide notice and opportunity for public comment. In addition, the 30-day delay in effectiveness required by 5 U.S.C. 553(d) is not applicable because this rule is not a substantive rule.

List of Subjects

15 CFR Part 705

Administrative practice and procedure, Business and industry, exports, Government contracts, Reporting and recording requirements.

15 CFR Part 730

Administrative practice and procedure, Advisory committees, Exports, Reporting and recordkeeping requirements, Strategic and critical materials.

15 CFR Parts 736, 770 and 772

Exports.

15 CFR Part 744

Exports, Reporting and recordkeeping requirements, Terrorism.

15 CFR Part 747

Administrative practice and procedure, Exports, Foreign trade, Reporting and recordkeeping requirements.

15 CFR Part 754

Agricultural commodities, Exports, Forests and forest products, Horses, Petroleum, Reporting and recordkeeping requirements.

15 CFR Part 756

Administrative practice and procedure, Exports, Penalties.

15 CFR Part 760

Boycotts, Exports, Reporting and recordkeeping requirements.

15 CFR Part 766

Administrative practice and procedure, Confidential business information, Exports, Law enforcement, Penalties.

15 CFR Part 768

Administrative practice and procedure, Exports, Reporting and recordkeeping requirements, Science and technology.

Accordingly, parts 705, 730, 736, 744, 747, 754, 756, 760, 766, 768, 770, and 772 of Title 15, Chapter VII of the Code of Federal Regulations (15 CFR parts 700-799) are amended as follows:

PART 705—[AMENDED]

1. The authority citation for 15 CFR part 705 continues to read as follows:

Authority: Sec. 232, Trade Expansion Act of 1962, as amended (19 U.S.C. 1862).

2. The second sentence of § 705.5(a) is revised to read as follows:

§ 705.5 Request or application for an investigation.

(a) * * * The original and 1 copy shall be filed with the Director, Office of Technology Evaluation, Room H-1093, U.S. Department of Commerce, Washington, DC 20230.

* * * * *

PART 730—[AMENDED]

3. The authority citation for 15 CFR part 730 is revised to read as follows:

Authority: 50 U.S.C. app. 2401 et seq.; 50 U.S.C. 1701 et seq.; 10 U.S.C. 7420; 10 U.S.C. 7430(e); 22 U.S.C. 287c; 22 U.S.C. 2151 note, Pub. L. 108-175; 22 U.S.C. 3201 et seq.; 22 U.S.C. 6004; 30 U.S.C. 185(s), 185(u); 42 U.S.C. 2139a; 42 U.S.C. 6212; 43 U.S.C. 1354; 46 U.S.C. app. 466c; 50 U.S.C. app. 5; Sec. 901-911, Pub. L. 106-387; Sec. 221, Pub. L. 107-56; E.O. 11912, 41 FR 15825, 3 CFR, 1976 Comp., p. 114; E.O. 12002, 42 FR 35623, 3 CFR, 1977 Comp., p.133; E.O. 12058, 43 FR 20947, 3 CFR, 1978 Comp., p. 179; E.O. 12214, 45 FR 29783, 3 CFR, 1980 Comp., p. 256; E.O. 12851, 58 FR 33181, 3 CFR, 1993 Comp., p. 608; E.O. 12854, 58 FR 36587, 3 CFR, 1993 Comp., p. 179; E.O. 12918, 59 FR 28205, 3 CFR, 1994 Comp., p. 899; E.O. 12938, 59 FR 59099, 3 CFR, 1994 Comp., p. 950; E.O. 12947, 60 FR 5079, 3 CFR, 1995 Comp., p. 356; E.O. 12981, 60 FR 62981, 3 CFR, 1995 Comp., p. 419; E.O. 13020, 61 FR 54079, 3 CFR, 1996 Comp. p. 219; E.O. 13026, 61 FR 58767, 3 CFR, 1996 Comp., p. 228; E.O. 13099, 63 FR 45167, 3 CFR, 1998 Comp., p.208; E.O. 13222, 66 FR 44025, 3 CFR, 2001 Comp., p. 783; E.O. 13224, 66 FR 49079, 3 CFR, 2001 Comp., p. 786; E.O. 13338, 69 FR 26751, May 13, 2004; Notice of August 3, 2006, 71 FR 44551 (August 7, 2006); Notice of October 27, 2006, 71 FR 64109 (October 31, 2006).

4. In § 730.9, the second sentence of the introductory text and the second sentence of paragraph (a) are revised to read as follows:

§ 730.9 Organization of the Bureau of Industry and Security.

* * * The Under Secretary is assisted by a Deputy Under Secretary for Industry and Security, the Assistant Secretary for Export Administration, the Assistant Secretary for Export Enforcement, the Director of Administration, the Director of the Office of Congressional and Public Affairs, and the Chief Information Officer. * * *

(a) * * * Its substantive work is carried out by six sub-units: the Office of Nonproliferation and Treaty Compliance, the Office of National Security and Technology Transfer Controls, the Office of Exporter Services, the Operating Committee, the Office of Strategic Industries and Economic Security, and the Office of Technology Evaluation.

* * * * *

PART 736—[AMENDED]

5. The authority citation for 15 CFR part 736 is revised to read as follows:

Authority: 50 U.S.C. app. 2401 et seq.; 50 U.S.C. 1701 et seq.; 22 U.S.C. 2151 (note), Pub. L. 108-175; E.O. 12938, 59 FR 59099, 3 CFR, 1994 Comp., p. 950; E.O. 13020, 61 FR 54079, 3 CFR, 1996 Comp. p. 219; E.O. 13026, 61 FR 58767, 3 CFR, 1996 Comp., p. 228; E.O. 13222, 66 FR 44025, 3 CFR, 2001 Comp., p. 783; E.O. 13338, 69 FR 26751, May 13, 2004; Notice of August 3, 2006, 71 FR 44551 (August 7, 2006); Notice of October 27, 2006, 71 FR 64109 (October 31, 2006).

PART 744—[AMENDED]

6. The authority citation for 15 CFR part 744 continues to read as follows:

Authority: 50 U.S.C. app. 2401 et seq.; 50 U.S.C. 1701 et seq.; 22 U.S.C. 3201 et seq.; 42 U.S.C. 2139a; Sec. 901-911, Pub. L. 106-387; Sec. 221, Pub. L. 107-56; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 3, 2006, 71 FR 44551 (August 7, 2006); Notice of October 27, 2006, 71 FR 64109 (October 31, 2006).

7. Section 744.19(b) is revised to read as follows:

§ 744.19 Licensing policy regarding persons sanctioned pursuant to specified statutes.

* * * * *

.

(b) A sanction issued pursuant to the Iran, North Korea, and Syria Nonproliferation Act (Pub. L. 106-178, 114 Stat. 38 (March 14, 2000), as amended by Pub. L. No. 109-112, 119 Stat. 2366 (November 22, 2005) and Pub. L. No. 109-353, 120 Stat. 2015 (October 13, 2006)) that prohibits the granting of a license for the transfer to foreign entities of items, the export of which is controlled under the Export Administration Act of 1979 or the Export Administration Regulations.

* * * * *

PART 747—[AMENDED]

8. The authority citation for 15 CFR part 747 is revised to read as follows:

Authority: 50 U.S.C. app. 2401 et seq.; 50 U.S.C. 1701 et seq.; Sec 1503, Pub. L. 108-11, 117 Stat. 559; E.O. 12918, 59 FR 28205, 3 CFR, 1994 Comp., p. 899; E.O. 13222, 3 CFR, 2001 Comp., p. 783; Presidential Determination 2003-23 of May 7, 2003, 68 FR 26459, May 16, 2003; Notice of August 3, 2006, 71 FR 44551 (August 7, 2006).

PART 754—[AMENDED]

9. The authority citation for 15 CFR part 754 is revised to read as follows:

Authority: 50 U.S.C. app. 2401 et seq.; 50 U.S.C. 1701 et seq.; 10 U.S.C. 7420; 10 U.S.C. 7430(e); 30 U.S.C. 185(s), 185(u); 42 U.S.C. 6212; 43 U.S.C. 1354; 46 U.S.C. app. 466c; E.O. 11912, 41 FR 15825, 3 CFR, 1976 Comp., p. 114; E.O. 13222, 66 FR 44025, 3 CFR, 2001 Comp., p. 783; Notice of August 3, 2006, 71 FR 44551 (August 7, 2006).

PART 756—[AMENDED]

10. The authority citation for 15 CFR part 756 is revised to read as follows:

Authority: 50 U.S.C. app. 2401 et seq.; 50 U.S.C. 1701 et seq.; E.O. 13222, 66 FR 44025, 3 CFR, 2001 Comp., p. 783; Notice of August 3, 2006, 71 FR 44551 (August 7, 2006).

PART 760—[AMENDED]

11. The authority citation for 15 CFR part 760 is revised to read as follows:

Authority: 50 U.S.C. app. 2401 et seq.; 50 U.S.C. 1701 et seq.; E.O. 13222, 66 FR 44025, 3 CFR, 2001 Comp., p. 783; Notice of August 3, 2006, 71 FR 44551 (August 7, 2006).

PART 766—[AMENDED]

12. The authority citation for 15 CFR part 766 is revised to read as follows:

Authority: 50 U.S.C. app. 2401 et seq.; 50 U.S.C. 1701 et seq.; E.O. 13222, 66 FR 44025, 3 CFR, 2001 Comp., p. 783; Notice of August 3, 2006, 71 FR 44551 (August 7, 2006).

PART 768—[AMENDED]

13. The authority citation for 15 CFR part 768 is revised to read as follows:

Authority: 50 U.S.C. app. 2401 et seq.; 50 U.S.C. 1701 et seq.; E.O. 13222, 66 FR 44025, 3 CFR, 2001 Comp., p. 783; Notice of August 3, 2006, 71 FR 44551 (August 7, 2006).

14. Section § 768.4(d) is revised to read as follows:

§ 768.4 Initiation of an assessment.

* * * * *

(d) BIS mailing address. All foreign availability submissions and TAC certifications should be submitted to: Department of Commerce, Bureau of Industry and Security, Room H-1093, 14th Street and Pennsylvania Avenue, NW, Washington, DC 20230.

15. The second sentence of § 768.8(h) is revised to read as follows:

§ 768.8 Eligibility of expedited licensing procedures for non-controlled countries.

* * * * *

(h) * * * Submissions and certifications should be sent to: Department of Commerce, Bureau of Industry and Security, Room H-1093, 14th Street and Pennsylvania Avenue, NW., Washington, DC 20230.

PART 770—[AMENDED]

16. The authority citation for 15 CFR part 770 is revised to read as follows:

Authority: 50 U.S.C. app. 2401 et seq.; 50 U.S.C. 1701 et seq.; E.O. 13222, 66 FR 44025, 3 CFR, 2001 Comp., p. 783; Notice of August 3, 2006, 71 FR 44551 (August 7, 2006).

PART 772—[AMENDED]

17. The authority citation for 15 CFR part 772 is revised to read as follows:

Authority: 50 U.S.C. app. 2401 et seq.; 50 U.S.C. 1701 et seq.; E.O. 13222, 66 FR 44025, 3 CFR, 2001 Comp., p. 783; Notice of August 3, 2006, 71 FR 44551 (August 7, 2006).

Dated: April 30, 2007.
Christopher A. Padilla,
Assistant Secretary for Export Administration.

[FR Doc. E7-8582 Filed 5-3-07; 8:45 am]

BILLING CODE 3510-33-P